COMMODITY FUTURES TRADING COMMISSION

Energy Markets Advisory Committee Meeting

This is to give notice that the Commodity Futures Trading Commission's Energy Markets Advisory Committee will conduct a public meeting on Tuesday, June 10, 2008. The meeting will take place in the first floor hearing room of the Commission's Washington, DC headquarters, Three Lafayette Centre, 1155 21st Street, NW., Washington, DC 20581 from 1 p.m. to 4:30 p.m. The purpose of the meeting is to discuss energy market issues. The meeting will be chaired by Walter L. Lukken, who is Acting Chairman of the Commission and Chairman of the Energy Markets Advisory Committee.

The agenda will consist of the following:

(1) Call to Order and Introduction;

(2) Current Market and Regulatory Developments;

(3) Market Transparency;

(4) Energy Market Best Practices;

(5) Discussion of Future Meetings and Topics;

(6) Adjournment.

The meeting is open to the public. Any member of the public who wishes to file a written statement with the committee should mail a copy of the statement to the attention of: Energy Markets Advisory Committee, c/o Acting Chairman Walter L. Lukken, Commodity Futures Trading Commission, Three Lafayette Centre, 1155 21st Street, NW., Washington, DC 20581, before the meeting. Members of the public who wish to make oral statements should inform Acting Chairman Lukken in writing at the foregoing address at least three business days before the meeting. Reasonable provision will be made, if time permits, for oral presentations of no more than five minutes each in duration.

For further information concerning this meeting, please contact Erin Shaw at 202-418-5078.

Issued by the Commission in Washington, DC on May 19, 2008.
David A. Stawick,
Secretary of the Commission.

[FR Doc. E8-11668 Filed 5-22-08; 8:45 am]

BILLING CODE 6351-01-P